DEPARTMENT OF TRANSPORTATION

Federal Aviation Administration

14 CFR Part 39

[Docket No. FAA-2019-0525; Product Identifier 2019-NM-076-AD; Amendment 39-19824; AD 2020-01-18]

RIN 2120-AA64

Airworthiness Directives; The Boeing Company Airplanes

AGENCY: Federal Aviation Administration (FAA), DOT.

ACTION: Final rule.

SUMMARY: The FAA is superseding Airworthiness Directive (AD) 2006-11-11, which applied to all The Boeing Company Model 757 airplanes. AD 2006-11-11 required incorporating a new revision to the Airworthiness Limitations section of the Instructions for Continued Airworthiness to mandate certain repetitive inspections for fatigue cracking of principal structural elements (PSEs). This AD retains those actions and requires revising the existing maintenance or inspection program, as applicable, to incorporate additional new or more restrictive airworthiness limitations. This AD was prompted by a determination that new or more restrictive airworthiness limitations are necessary. The FAA is issuing this AD to address the unsafe condition on these products.

DATES: This AD is effective March 5, 2020.

The Director of the Federal Register approved the incorporation by reference of a certain publication listed in this AD as of March 5, 2020.

The Director of the Federal Register approved the incorporation by reference of certain other publications listed in this AD as of June 30, 2006 (71 FR 30278, May 26, 2006).

ADDRESSES: For service information identified in this final rule, contact Boeing Commercial Airplanes, Attention: Contractual & Data Services (C&DS), 2600 Westminster Blvd., MC 110-SK57, Seal Beach, CA 90740-5600; phone: 562-797-1717; internet: https://www.myboeingfleet.com. You may view this service information at the FAA, Transport Standards Branch, 2200 South 216th St., Des Moines, WA. For information on the availability of this material at the FAA, call 206-231-3195. It is also available on the internet at https://www.regulations.gov by searching for and locating Docket No. FAA-2019-0525.

Examining the AD Docket

You may examine the AD docket on the internet at https://www.regulations.gov by searching for and locating Docket No. FAA-2019-0525; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Chandraduth Ramdoss, Aerospace Engineer, Airframe Section, FAA, Los Angeles ACO Branch, 3960 Paramount Boulevard, Lakewood, CA 90712-4137; phone: 562-627-5239; fax: 562-627-5210; email: chandraduth.ramdoss@faa.gov.

SUPPLEMENTARY INFORMATION:

Discussion

The FAA issued a notice of proposed rulemaking (NPRM) to amend 14 CFR part 39 to revise AD 2006-11-11, Amendment 39-14615 (71 FR 30278, May 26, 2006) (“AD 2006-11-11”). AD 2006-11-11 applied to all The Boeing Company Model 757 airplanes. The NPRM published in the Federal Register on July 25, 2019 (84 FR 35840). The NPRM was prompted by a determination that new or more restrictive airworthiness limitations are necessary. The NPRM proposed to continue to require incorporating a new revision to the Airworthiness Limitations section of the Instructions for Continued Airworthiness to mandate certain repetitive inspections for fatigue cracking of PSEs. The NPRM also proposed to require revising the existing maintenance or inspection program, as applicable, to incorporate new or more restrictive airworthiness limitations. The FAA is issuing this AD to address fatigue cracking of various PSEs; such fatigue cracking could adversely affect the structural integrity of these airplanes.

Comments

The FAA gave the public the opportunity to participate in developing this AD. The following presents the comments received on the NPRM and the FAA's response to each comment.

Support for the NPRM

Boeing and United Airlines concurred with the NPRM. FedEx stated that it has no issues with the proposed requirements of the NPRM.

Request To Clarify the Requirements of Paragraph (i) of the Proposed AD

Delta Airlines (DAL) requested that the FAA clarify the requirements of paragraph (i) of the proposed AD. DAL mentioned that it had complied with the requirements of AD 2006-11-11 in the year 2006. DAL then pointed out that it interprets the requirements of paragraph (i) of the proposed AD to mean that once the NPRM is adopted as a final rule, any alternative actions, intervals, or critical design configuration control limitations (CDCCLs) will require approval of an AMOC. DAL expressed concern that parties other than the FAA ACO branch or the Boeing Company Organization Designation Authorization (ODA) might not be aware that AD 2006-11-11 had been superseded. Additionally, DAL mentioned that the period of time between adoption of a new rule and the effective date of a new rule is typically used to get all required documentation updated. DAL then pointed out that operators attempt to incorporate newly adopted rules by the effective date of the new rule and would not be able to have all of the related documentation updated immediately upon adoption of the new rule. DAL recommended that a “grace period” be included in paragraph (i) of the proposed AD by revising to state that “. . . no alternative actions (e.g., inspections), intervals, or CDCCLs may be used after the effective date of this AD unless. . . .”

The FAA agrees to clarify. AMOCs provide an alternative method of compliance to the methods required to be used in the associated AD. An AMOC may only be approved after an AD has been published and only after data are provided to show that the proposed solution is complete and addresses the unsafe condition. Therefore, once this AD is published, any person may request approval of an AMOC under the provisions of paragraph (l) of this AD. The FAA understands the operator's choice to comply with the AD requirements by the effective date, however, the effective date is not a deadline. The compliance time of the required actions is within 18 months after the effective date of this AD, which means that the compliance time starts on the effective date. The operator's choice to do the required actions early is commendable, but does not necessitate a grace period. Additionally, paragraph (l)(4) of this AD specifically authorizes the use of previously approved AMOCs for AD 2006-11-11 for the corresponding provisions of this AD. The FAA has not changed this AD in this regard.

Request To Clarify the Alternative Method of Compliance (AMOC) Provisions

American Airlines (AAL) requested that, due to differences in verbiage between the requirements of paragraphs (i) and (j) of the proposed AD, and paragraph (l) of the proposed AD, the FAA clarify whether The Boeing Company ODA may approve alternative actions (e.g., inspections), intervals, or CDCCLs.

The FAA agrees that clarification is necessary. The Boeing Company ODA is able to approve AMOCs if they are within the authority delegated to them by the FAA. It is likely that the FAA will delegate some AMOC authority to the Boeing Company ODA for this AD. The FAA does not delegate AMOC authority for CDCCLs. The FAA has not changed this AD in this regard.

Request To Revise the Applicability for Supplemental Type Certificate (STC) ST01518SE

Aviation Partners Boeing (APB) requested that the FAA revise the proposed applicability to specify that STC ST01518SE affects the ability to accomplish the proposed actions. APB pointed out that STC ST01518SE requires alternative actions or inspection intervals for some of the new or updated tasks in Boeing 757 Maintenance Planning Data (MPD) Document, Section 9, Airworthiness Limitations (AWLs) and Certification Maintenance Requirements (CMRs), D622N001-9, Revision October 2018. APB also stated that certain inspections and inspection intervals for the structural significant items (SSIs) contained in APB 757-200 MPD Supplements AP57.2-0604.2 and AP57.2-0604.2-DTR, and for the SSIs contained in APB 757-300 MPD Supplements AP57.3-0604.2 and AP57.3-0604.2-DTR, are alternative to those contained in the Boeing 757 Maintenance Planning Data (MPD) Document, Section 9, Airworthiness Limitations (AWLs) and Certification Maintenance Requirements (CMRs), D622N001-9, Revision October 2018. APB mentioned that it will revise the affected APB MPD supplements and apply for new AMOC(s) in accordance with paragraph (l) of the proposed AD. APB also suggested that paragraph (c) of the proposed AD be redesignated as paragraph (c)(1) of this AD and add paragraph (c)(2) to this AD to state that installation of STC ST01518SE affects the ability to accomplish the actions required by this AD.

The FAA concurs with the commenter. The FAA has redesignated paragraph (c) of the proposed AD as paragraph (c)(1) of this AD and added paragraph (c)(2) to this AD to state that installation of STC ST01518SE affects the ability to accomplish the actions required by this AD. Therefore, for airplanes on which STC ST01518SE is installed, a “change in product” AMOC approval request is necessary to comply with the requirements of 14 CFR 39.17.

The FAA has also redesignated paragraph (h) of the proposed AD as paragraph (h)(1) of this AD and added paragraph (h)(2) of this AD to require that, within 18 months after the effective date of this AD, airplanes with STC ST01518SE installed, must revise the existing maintenance or inspection program, as applicable, to incorporate a supplemental program to address the effect of STC ST01518SE, approved in accordance with the procedures specified in paragraph (l) of this AD.

Additionally, the FAA emphasizes that for any airplane that is modified by an STC that affects any SSI inspections, an AMOC approval request is necessary to comply with the requirements of 14 CFR 39.17.

Conclusion

The FAA reviewed the relevant data, considered the comments received, and determined that air safety and the public interest require adopting this AD with the changes described previously, and minor editorial changes. We have determined that these minor changes:

• Are consistent with the intent that was proposed in the NPRM for addressing the unsafe condition; and

• Do not add any additional burden upon the public than was already proposed in the NPRM.

The FAA also determined that these changes will not increase the economic burden on any operator or increase the scope of this AD.

Related Service Information Under 1 CFR Part 51

The FAA reviewed Boeing 757 Maintenance Planning Data (MPD) Document, Section 9, Airworthiness Limitations (AWLs) and Certification Maintenance Requirements (CMRs), D622N001-9, Revision October 2018. This service information describes procedures for airworthiness limitations for structural inspections, fuel tank systems, safe life limits, and certification maintenance requirements.

This AD also requires the following service information, which the Director of the Federal Register approved for incorporation by reference as of June 30, 2006 (71 FR 30278, May 26, 2006).

• Boeing 757 Maintenance Planning Data (MPD) Document, Section 9, “Airworthiness Limitations and Certification Maintenance Requirements,” Subsection B. of Boeing Document D622N001-9, Revision “May 2003.”

• Boeing 757 Maintenance Planning Data (MPD) Document, Section 9, “Airworthiness Limitations and Certification Maintenance Requirements,” Subsection B. of Boeing Document D622N001-9, Revision “June 2005.”

This service information is reasonably available because the interested parties have access to it through their normal course of business or by the means identified in the ADDRESSES section.

Costs of Compliance

The FAA estimates that this AD affects 561 airplanes of U.S. registry. The FAA estimates the following costs to comply with this AD.

The retained and new actions specified in this AD have the same cost for revising the existing maintenance or inspection program. The FAA has determined that revising the existing maintenance or inspection program takes an average of 90 work-hours per operator, although the agency recognizes that this number may vary from operator to operator. In the past, the FAA has estimated that this action takes 1 work-hour per airplane. Since operators incorporate maintenance or inspection program changes for their affected fleet(s), the FAA has determined that a per-operator estimate is more accurate than a per-airplane estimate. Therefore, the FAA estimates the total cost per operator to be $7,650 (90 work-hours × $85 per work-hour).

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2006-11-11, Amendment 39-14615 (71 FR 30278, May 26, 2006), and adding the following new AD:

2020-01-18 The Boeing Company: Amendment 39-19824; Docket No. FAA-2019-0525; Product Identifier 2019-NM-076-AD.

(a) Effective Date

This AD is effective March 5, 2020.

(b) Affected ADs

This AD replaces AD 2006-11-11, Amendment 39-14615 (71 FR 30278, May 26, 2006) (“AD 2006-11-11”).

(c) Applicability

(1) This AD applies to all The Boeing Company Model 757-200, -200PF, -200CB, and -300 series airplanes, certificated in any category.

(2) Installation of Supplemental Type Certificate (STC) ST01518SE affects the ability to accomplish the actions required by this AD. Therefore, for airplanes on which STC ST01518SE is installed, a “change in product” alternative method of compliance (AMOC) approval request is necessary to comply with the requirements of 14 CFR 39.17.

(d) Subject

Air Transport Association (ATA) of America Code 28, Fuel; 53, Fuselage; 57, Wings.

(e) Unsafe Condition

This AD was prompted by a determination that new or more restrictive airworthiness limitations are necessary. The FAA is issuing this AD to address fatigue cracking of various principal structural elements (PSEs); such fatigue cracking could adversely affect the structural integrity of these airplanes.

(f) Compliance

Comply with this AD within the compliance times specified, unless already done.

(g) Retained Revision to the Maintenance or Inspection Program, With No Changes

This paragraph restates the requirements of paragraph (h) of AD 2006-11-11, with no changes. Within 36 months after June 30, 2006 (the effective date of AD 2006-11-11), revise Section 9, “Airworthiness Limitations and CMRs” of the Boeing 757 Maintenance Planning Data (MPD) Document to incorporate Subsection B. of Boeing Document D622N001-9, Revision “May 2003;” or Revision “June 2005;” as applicable.

(h) New Maintenance or Inspection Program Revision

(1) Except for airplanes identified in paragraph (h)(2) of this AD: Within 18 months after the effective date of this AD, revise the existing maintenance or inspection program, as applicable, to incorporate the information specified in Boeing 757 Maintenance Planning Data (MPD) Document, Section 9, Airworthiness Limitations (AWLs) and Certification Maintenance Requirements (CMRs), D622N001-9, Revision October 2018. The initial compliance time for doing the new or updated tasks is at the time specified in Boeing 757 Maintenance Planning Data (MPD) Document, Section 9, Airworthiness Limitations (AWLs) and Certification Maintenance Requirements (CMRs), D622N001-9, Revision October 2018, or within 18 months after the effective date of this AD, whichever occurs later. The compliance time for doing the unchanged tasks is at the time specified in Boeing 757 Maintenance Planning Data (MPD) Document, Section 9, Airworthiness Limitations (AWLs) and Certification Maintenance Requirements (CMRs), D622N001-9, Revision October 2018.

(2) For airplanes with STC ST01518SE installed: Within 18 months after the effective date of this AD, revise the existing maintenance or inspection program, as applicable, to incorporate a supplemental program to address the effect of STC ST01518SE, in accordance with the procedures specified in paragraph (l) of this AD.

(i) No Alternative Actions, Intervals, or Critical Design Configuration Control Limitations (CDCCLs) for Paragraph (g) of This AD

Except as required by paragraph (h) of this AD: After the existing maintenance or inspection program has been revised as required by paragraph (g) of this AD, no alternative actions (e.g., inspections), intervals, or CDCCLs may be used unless the actions, intervals, and CDCCLs are approved as an alternative method of compliance (AMOC) in accordance with the procedures specified in paragraph (l) of this AD.

(j) No Alternative Actions, Intervals, or CDCCLs for Paragraph (h) of This AD

After the existing maintenance or inspection program has been revised as required by paragraph (h) of this AD, no alternative actions (e.g., inspections), intervals, or CDCCLs may be used unless the actions, intervals, and CDCCLs are approved as an AMOC in accordance with the procedures specified in paragraph (l) of this AD.

(k) Terminating Action for the Requirements of Paragraph (g) of This AD

Accomplishing the revision required by paragraph (h) of this AD terminates the revision required by paragraph (g) of this AD.

(l) Alternative Methods of Compliance (AMOCs)

(1) The Manager, Los Angeles ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (m) of this AD. Information may be emailed to: 9-ANM-LAACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by The Boeing Company Organization Designation Authorization (ODA) that has been authorized by the Manager, Los Angeles ACO Branch, FAA, to make those findings. To be approved, the repair method, modification deviation, or alteration deviation must meet the certification basis of the airplane, and the approval must specifically refer to this AD.

(4) AMOCs approved previously for AD 2001-20-12, Amendment 39-12460 (66 FR 52492, October 16, 2001) and AD 2006-11-11 are approved as AMOCs for the corresponding provisions of this AD.

(m) Related Information

For more information about this AD, contact Chandraduth Ramdoss, Aerospace Engineer, Airframe Section, FAA, Los Angeles ACO Branch, 3960 Paramount Boulevard, Lakewood, CA 90712-4137; phone: 562-627-5239; fax: 562-627-5210; email: chandraduth.ramdoss@faa.gov.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on March 5, 2020.

(i) Boeing 757 Maintenance Planning Data (MPD) Document, Section 9, Airworthiness Limitations (AWLs) and Certification Maintenance Requirements (CMRs), D622N001-9, Revision October 2018.

(ii) [Reserved]

(4) The following service information was approved for IBR on June 30, 2006 (71 FR 30278, May 26, 2006).

(i) Boeing 757 Maintenance Planning Data Document, Section 9, “Airworthiness Limitations and Certification Maintenance Requirements,” Subsection B. of Boeing Document D622N001-9, Revision “May 2003.”

(ii) Boeing 757 Maintenance Planning Data Document, Section 9, “Airworthiness Limitations and Certification Maintenance Requirements,” Subsection B. of Boeing Document D622N001-9, Revision “June 2005.”

(5) For service information identified in this AD, contact Boeing Commercial Airplanes, Attention: Contractual & Data Services (C&DS), 2600 Westminster Blvd., MC 110-SK57, Seal Beach, CA 90740-5600; phone: 562-797-1717; internet: https://www.myboeingfleet.com.

(6) You may view this service information at the FAA, Transport Standards Branch, 2200 South 216th St., Des Moines, WA. For information on the availability of this material at the FAA, call 206-231-3195.

(7) You may view this service information that is incorporated by reference at the National Archives and Records Administration (NARA). For information on the availability of this material at NARA, email fedreg.legal@nara.gov, or go to: https://www.archives.gov/federal-register/cfr/ibr-locations.html.

Issued on January 21, 2020.
Gaetano A. Sciortino,
Deputy Director for Strategic Initiatives, Compliance & Airworthiness Division, Aircraft Certification Service.

[FR Doc. 2020-01636 Filed 1-29-20; 8:45 am]

BILLING CODE 4910-13-P